DEPARTMENT OF JUSTICE

[OMB Number 1105-0087]

National Drug Intelligence Center: Agency Information Collection Activities: Proposed Extension With Change of a Previously Approved Collection; Comments Requested

ACTION: 60-Day Notice of Information Collection Under Review: Extension with Change of a Previously Approved Collection SENTRY Early Warning and Response System.

The United States Department of Justice (DOJ), National Drug Intelligence Center (NDIC), will be submitting the following information collection request to the Office of Management of Budget (OMB) for review and approval in accordance with the Paperwork Reduction Act of 1995. The proposed information collection is published to obtain comments from the public and affected agencies. Comments are encouraged and will be accepted for “sixty days” until October 15, 2010. This process is conducted in accordance with 5 CFR 1320.10.

If you have comments especially on the estimated public burden or associated response time, suggestions, or need a copy of the proposed information collection instrument with instructions or additional information, please contact Kevin M. Walker, General Counsel, National Drug Intelligence Center, Fifth Floor, 319 Washington Street, Johnstown, PA 15901.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions user;

—Enhance the quality, utility, and clarity of the information to be collected; and

—Minimize the burden of the collection of information on those who are to respond, including through the use of appropriate automated, electronic, mechanical, or other technological collection techniques or other technological collection techniques or other forms of information technology, e.g., permitting electronic submission of responses.

Overview of This Information Collection

(1) Type of Information Collection: Extension with Change of a previously approved collection.

(2) Title of the Form/Collection: SENTRY Early Warning and Response System.

(3) Agency form number, if any, and the applicable component of the Department of Justice sponsoring the collection: Form Number: NDIC Form # N/A.

(4) The 2004 National Synthetic Drugs Action Plan designated NDIC the lead agency for developing an early warning and response system. This instrument is critical for NDIC to detect emerging drug abuse and production trends and thereafter notify law enforcement demand authorities and prepared associated reports.

From February 2009 until March 2010, the SENTRY Synthetic Drug Early Warning System was available only to specifically targeted groups including chemists; education providers (teachers, administrators, school resource officers, or school nurses); law enforcement personnel; treatment providers (physicians specializing in drug abuse issues); medical service personnel (physicians, nurses, emergency medical technicians, medical examiners); and other specific groups such as drug intelligence analysts.

At this juncture, the National Drug Intelligence Center (NDIC) has determined that some SENTRY information may be of interest to members of the general public. As of June 2010, all SENTRY DrugAlert Watches, DrugAlert Warnings, and News and Bulletins have been made accessible to the general public via the NDIC public facing Web site. Additionally, NDIC will make the SENTRY Geographical Information System Map accessible to the general public, with a truncated Information Drop that includes: color-coded substance categories, submission/event details and outcomes (if known), and a general geographical locality of the submission/event.

(5) An estimate of the total number of respondents and the amount of time estimated for an average respondent to respond: It is estimated that approximately 300 respondents will submit a tip requiring approximately 15 minutes. Use of the system is expected to increase significantly.

(6) As estimate of the total public burden (in hours) associated with the collection: There is an estimated 75 total annual burden hours associated with this collection.

If additional information is required contact: Ms. Lynn Bryant, Department Clearance Officer, United States Department of Justice, Justice Management Division, Policy and Planning Staff, 2 Constitution Square, 145 N Street, NE., 2E-502, Washington, DC 20530.

Dated: August 10, 2010.
Lynn Bryant,
Department Clearance Officer,

[FR Doc. 2010-20106 Filed 8-13-10; 8:45 am]

BILLING CODE 4410-DC-P